DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado:
Denver (FEMA Docket No.: B-1863). | City and County of Denver (18-08-1060P). | The Honorable Michael Hancock, Mayor, City and County of Denver, 1437 Bannock Street, Room 350, Denver, CO 80202. | Department of Public Works, 201 West Colfax Avenue, Denver, CO 80202. | Jan. 11, 2019 | 080046
Denver (FEMA Docket No.: B-1863). | City of Fountain (17-08-0467P). | The Honorable Gabriel Ortega, Mayor, City of Fountain, 116 South Main Street, Fountain, CO 80817. | Pikes Peak Regional Development Center, 2880 International Circle, Colorado Springs, CO 80910. | Jan. 15, 2019 | 080061
El Paso (FEMA Docket No.: B-1855). | City of Manitou Springs (18-08-0141P). | The Honorable Ken A. Jaray, Mayor, City of Manitou Springs, 606 Manitou Avenue, Manitou Springs, CO 80829. | City Hall, 606 Manitou Avenue, Manitou Springs, CO 80829. | Dec. 20, 2018 | 080063
El Paso (FEMA Docket No.: B-1863). | Unincorporated areas of El Paso County (17-08-0467P). | The Honorable Darryl Glenn, President, El Paso County, Board of Commissioners, 200 South Cascade Avenue, Suite 100, Colorado Springs, CO 80903. | Pikes Peak Regional Development Center, 2880 International Circle, Colorado Springs, CO 80910. | Jan. 15, 2019 | 080059
Connecticut:
New Haven (FEMA Docket No.: B-1863). | City of New Haven (18-01-1588P). | The Honorable Toni N. Harp, Mayor, City of New Haven, 165 Church Street, New Haven, CT 06510. | Planning Department, 165 Church Street, 5th Floor, New Haven, CT 06510. | Jan. 18, 2019 | 090084
Tolland (FEMA Docket No.: B-1863). | Town of Mansfield (18-01-0807P). | Mr. Derrik M. Kennedy, Manager, Town of Mansfield, 4 South Eagleville Road, Mansfield, CT 06268. | Town Hall, 4 South Eagleville Road, Mansfield, CT 06268. | Jan. 11, 2019 | 090128
Delaware:
Kent (FEMA Docket No.: B-1863). | Town of Camden (18-03-0719P). | The Honorable Justin T. King, Mayor, Town of Camden, 1783 Friends Way, Camden, DE 19934. | Land Use Department, 1783 Friends Way, Camden, DE 19934. | Jan. 9, 2019 | 100003
Kent (FEMA Docket No.: B-1863). | Unincorporated areas of Kent County (18-03-0719P). | The Honorable P. Brooks Banta, President and First District Commissioner, Kent County Levy Court, 555 Bay Road, Dover, DE 19901. | Kent County Inspections and Enforcement Department, 555 Bay Road, Dover, DE 19901. | Jan. 9, 2019 | 100001
Florida:
Collier (FEMA Docket No.: B-1855). | City of Marco Island (18-04-5420P). | The Honorable Jared Grifoni, Chairman, City of Marco Island Council, 50 Bald Eagle Drive, Marco Island, FL 34145. | Building Services Department, 50 Bald Eagle Drive, Marco Island, FL 34145. | Dec. 19, 2018 | 120426
Lee (FEMA Docket No.: B-1855). | City of Sanibel (18-04-4629P). | The Honorable Kevin Ruane, Mayor, City of Sanibel, 800 Dunlop Road, Sanibel, FL 33957. | Planning Department, 800 Dunlop Road, Sanibel, FL 33957. | Dec. 19, 2018 | 120402
Lee (FEMA Docket No.: B-1863). | Unincorporated areas of Lee County (18-04-5442P). | Mr. Roger Desjarlais, Manager, Lee County, 2120 Main Street, Fort Myers, FL 33901. | Lee County Building Department, 1500 Main Street, Fort Myers, FL 33901. | Jan. 17, 2019 | 125124
Monroe (FEMA Docket No.: B-1863). | City of Marathon (18-04-5518P). | The Honorable Michelle Coldiron, Mayor, City of Marathon, 9805 Overseas Highway, Marathon, FL 33050. | Planning Department, 9805 Overseas Highway, Marathon, FL 33050. | Jan. 23, 2019 | 120681
Monroe (FEMA Docket No.: B-1855). | Unincorporated areas of Monroe County (18-04-4989P). | The Honorable David Rice, Mayor, Monroe County Board of Commissioners, 9400 Overseas Highway, Suite 210, Marathon, FL 33050. | Monroe County Building Department, 2798 Overseas Highway, Suite 300, Marathon, FL 33050. | Dec. 26, 2018 | 125129
Monroe (FEMA Docket No.: B-1855). | Unincorporated areas of Monroe County (18-04-4990P). | The Honorable David Rice, Mayor, Monroe County Board of Commissioners, 9400 Overseas Highway, Suite 210, Marathon, FL 33050. | Monroe County Building Department, 2798 Overseas Highway, Suite 300, Marathon, FL 33050. | Dec. 27, 2018 | 125129
Monroe (FEMA Docket No.: B-1855). | Unincorporated areas of Monroe County (18-04-4991P). | The Honorable David Rice, Mayor, Monroe County Board of Commissioners, 9400 Overseas Highway, Suite 210, Marathon, FL 33050. | Monroe County Building Department, 2798 Overseas Highway, Suite 300, Marathon, FL 33050. | Dec. 26, 2018 | 125129
Monroe (FEMA Docket No.: B-1863). | Unincorporated areas of Monroe County (18-04-5414P). | The Honorable David Rice, Mayor, Monroe County Board of Commissioners, 9400 Overseas Highway, Suite 210, Marathon, FL 33050. | Monroe County Building Department, 2798 Overseas Highway, Suite 300, Marathon, FL 33050. | Jan. 16, 2019 | 125129
Monroe (FEMA Docket No.: B-1863). | Unincorporated areas of Monroe County (18-04-5417P). | The Honorable David Rice, Mayor, Monroe County Board of Commissioners, 9400 Overseas Highway, Suite 210, Marathon, FL 33050. | Monroe County Building Department, 2798 Overseas Highway, Suite 300, Marathon, FL 33050. | Jan. 16, 2019 | 125129
Monroe (FEMA Docket No.: B-1863). | Village of Islamorada (18-04-5481P). | The Honorable Chris Sante, Mayor, Village of Islamorada, 86800 Overseas Highway, Islamorada, FL 33036. | Planning and Development Department, 86800 Overseas Highway, Islamorada, FL 33036. | Jan. 2, 2019 | 120424
Pinellas (FEMA Docket No.: B-1855). | Unincorporated areas of Pinellas County (18-04-2032P). | The Honorable Kenneth T. Welch, Chairman, Pinellas County Board of Commissioners, 315 Court Street, Clearwater, FL 33756. | Pinellas County Building Services Department, 440 Court Street, Clearwater, FL 33756. | Dec. 20, 2018 | 125139
Polk (FEMA Docket No.: B-1863). | Unincorporated areas of Polk County (18-04-1818P). | The Honorable R. Todd Dantzler, Chairman, Polk County Board of Commissioners, 330 West Church Street, Bartow, FL 33831. | Polk County Floodplain Department, 330 West Church Street, Bartow, FL 33831. | Jan. 24, 2019 | 120261
Georgia: Walton (FEMA Docket No.: B-1855). | Unincorporated areas of Walton County (18-04-3815P). | The Honorable Kevin Little, Chairman, Walton County Board of Commissioners, 111 South Broad Street, Monroe, GA 30655. | Walton County Planning and Development Department, 303 South Hammond Drive, Suite 98, Monroe, GA 30655. | Dec. 20, 2018 | 130185
Louisiana:
Iberia (FEMA Docket No.: B-1855). | City of New Iberia (18-06-0845P). | The Honorable Freddie DeCourt, Mayor, City of New Iberia, 457 East Main Street, Suite 300, New Iberia, LA 70560. | Permits and Inspections Department, 457 East Main Street, Suite 412, New Iberia, LA 70560. | Dec. 19, 2018 | 220082
Iberia (FEMA Docket No.: B-1855). | Unincorporated areas of Iberia Parish (18-06-0845P). | The Honorable Scott Saunier, Chief Administrative Officer, Iberia Parish, 300 Iberia Street, Suite 400, New Iberia, LA 70560. | Iberia Parish Permits, Planning, Zoning and Building Department, 715-A Weldon Street, New Iberia, LA 70560. | Dec. 19, 2018 | 220078
Maine: Knox (FEMA Docket No.: B-1863). | Town of Owls Head (18-01-1542P). | The Honorable Thomas Von Malder, Chairman, Town of Owls Head Board of Selectmen, 224 Ash Point Drive, Owls Head, ME 04854. | Building Department, 224 Ash Point Drive, Owls Head, ME 04854. | Jan. 11, 2019 | 230075
Massachusetts: Essex (FEMA Docket No.: B-1863). | Town of Rockport (18-01-1042P). | The Honorable Sarah J. Wilkinson, Chair, Town of Rockport Board of Selectmen, 34 Broadway, Rockport, MA 01966. | Department of Inspection Services, 34 Broadway, Rockport, MA 01966. | Jan. 9, 2019 | 250100
Mississippi: Warren (FEMA Docket No.: B-1863). | City of Vicksburg (18-04-5020P). | The Honorable George E. Flaggs, Jr., Mayor, City of Vicksburg, 1401 Walnut Street, Vicksburg, MS 39180. | Inspections Department, 819 South Street, Vicksburg, MS 39180. | Jan. 2, 2019 | 280176
Nevada: Clark (FEMA Docket No.: B-1863). | Unincorporated areas of Clark County (18-09-0813P). | The Honorable Steve Sisolak, Chairman, Clark County Board of Commissioners, 500 South Grand Central Parkway, Las Vegas, NV 89155. | Clark County Public Works Department, 500 South Grand Central Parkway, Las Vegas, NV 89155. | Jan. 25, 2019 | 320003
New Mexico: Bernalillo (FEMA Docket No.: B-1863). | Unincorporated areas of Bernalillo County (18-06-2313P). | The Honorable Steven Michael Quezada, Chairman, Bernalillo County Board of Commissioners, 1 Civic Plaza Northwest, Albuquerque, NM 87102. | Bernalillo County Public Works Division, 2400 Broadway Boulevard Southeast, Albuquerque, NM 87102. | Jan. 14, 2019 | 350001
Pennsylvania:
Columbia (FEMA Docket No.: B-1855). | Town of Bloomsburg (18-03-0068P). | The Honorable William Kreisher, Mayor, Town of Bloomsburg, 301 East 2nd Street, Bloomsburg, PA 17815. | Town Hall, 301 East 2nd Street, Bloomsburg, PA 17815. | Dec. 28, 2018 | 420339
Columbia (FEMA Docket No.: B-1855). | Township of Catawissa (18-03-0068P). | The Honorable Roger W. Nuss, Chairman, Township of Catawissa Board of Supervisors, 153 Old Reading Road, Catawissa, PA 17820. | Township Hall, 153 Old Reading Road, Catawissa, PA 17820. | Dec. 28, 2018 | 420342
South Carolina:
Charleston (FEMA Docket No.: B-1855). | Town of Sullivan's Island (18-04-5145P). | The Honorable Patrick O'Neil, Mayor, Town of Sullivan's Island, P.O. Box 427, Sullivan's Island, SC 29482. | Town Hall, 2056 Middle Street, Sullivan's Island, SC 29482. | Jan. 2, 2019 | 455418
Charleston (FEMA Docket No.: B-1855). | Town of Sullivan's Island (18-04-5277P). | The Honorable Patrick O'Neil, Mayor, Town of Sullivan's Island, P.O. Box 427, Sullivan's Island, SC 29482. | Town Hall, 2056 Middle Street, Sullivan's Island, SC 29482. | Jan. 2, 2019 | 455418
South Dakota:
Minnehaha (FEMA Docket No.: B-1855). | City of Sioux Falls (18-08-0836P). | The Honorable Paul Ten Haken, Mayor, City of Sioux Falls, 224 West 9th Street, Sioux Falls, SD 57104. | Planning and Development Services Department, 231 North Dakota Avenue, Sioux Falls, SD 57104. | Dec. 20, 2018 | 460060
Stanley (FEMA Docket No.: B-1863). | City of Fort Pierre (18-08-0148P). | The Honorable Gloria Hanson, Mayor, City of Fort Pierre, P.O. Box 700, Fort Pierre, SD 57532. | Department of Public Works, 08 East 2nd Avenue, Fort Pierre, SD 57532. | Jan. 25, 2019 | 465419
Stanley (FEMA Docket No.: B-1863). | Unincorporated areas of Stanley County (18-08-0148P). | The Honorable Dana Iversen, Chair, Stanley County Commission, P.O. Box 595, Fort Pierre, SD 57532. | Stanley County Department of Public Works, 08 East 2nd Avenue, Fort Pierre, SD 57532. | Jan. 25, 2019 | 460287
Tennessee: Washington (FEMA Docket No.: B-1855). | City of Johnson City (18-04-4923P). | The Honorable David Tomita, Mayor, City of Johnson City, P.O. Box 2150, Johnson City, TN 37605. | Public Works Department, 601 East Main Street, Johnson City, TN 37605. | Jan. 2, 2019 | 475432
Texas:
Bell (FEMA Docket No.: B-1863). | City of Temple (18-06-1765P). | The Honorable Tim Davis, Mayor, City of Temple, 2 North Main Street, Suite 103, Temple, TX 76501. | Department of Public Works, Engineering Division, 3210 East Avenue H, Building A, Suite 107, Temple, TX 76501. | Jan. 9, 2019 | 480034
Bell (FEMA Docket No.: B-1863). | Unincorporated areas of Bell County (18-06-1765P). | The Honorable Jon H. Burrows, Bell County Judge, P.O. Box 768, Belton, TX 76513. | Bell County Engineering Department, 206 North Main Street, Belton, TX 76513. | Jan. 9, 2019 | 480706
Bexar (FEMA Docket No.: B-1863). | City of Universal City (18-06-1420P). | The Honorable John Williams, Mayor, City of Universal City, 2150 Universal City Boulevard, Universal City, TX 78148. | Stormwater Department, 2150 Universal City Boulevard, Universal City, TX 78148. | Jan. 14, 2019 | 480049
Bexar (FEMA Docket No.: B-1863). | Unincorporated areas of Bexar County (18-06-1812P). | The Honorable Nelson W. Wolff, Bexar County Judge, 101 West Nueva Street, 10th Floor, San Antonio, TX 78205. | Bexar County Public Works Department, 233 North Pecos-La Trinidad Street, Suite 420, San Antonio, TX 78207. | Dec. 24, 2018 | 480035
Collin (FEMA Docket No.: B-1863). | City of Allen (18-06-1943P). | Mr. Peter H. Vargas, Manager, City of Allen, 305 Century Parkway, Allen, TX 75013. | Engineering and Traffic Department, 305 Century Parkway, Allen, TX 75013. | Jan. 7, 2019 | 480131
Collin (FEMA Docket No.: B-1863). | City of Plano (18-06-1563P). | The Honorable Harry LaRosiliere, Mayor, City of Plano, 1520 K Avenue, Plano, TX 75074. | Engineering Department, 1520 K Avenue, Plano, TX 75074. | Jan. 18, 2019 | 480140
Collin (FEMA Docket No.: B-1863). | City of Plano (18-06-1943P). | The Honorable Harry LaRosiliere, Mayor, City of Plano, 1520 K Avenue, Plano, TX 75074. | Engineering Department, 1520 K Avenue, Plano, TX 75074. | Jan. 7, 2019 | 480140
Tarrant (FEMA Docket No.: B-1863). | City of Fort Worth (18-06-1064P). | The Honorable Betsy Price, Mayor, City of Fort Worth, 200 Texas Street, Fort Worth, TX 76102. | Transportation and Public Works Department, 200 Texas Street, Fort Worth, TX 76102. | Dec. 28, 2018 | 480596
Tarrant (FEMA Docket No.: B-1863). | City of Kennedale (18-06-3137X). | The Honorable Brian Johnson, Mayor, City of Kennedale, 405 Municipal Drive, Kennedale, TX 76060. | Planning and Development Department, 405 Municipal Drive, Kennedale, TX 76060. | Jan. 3, 2019 | 480603
Webb (FEMA Docket No.: B-1863). | City of Laredo (17-06-3048P). | The Honorable Pete Saenz, Mayor, City of Laredo, 1110 Houston Street, 3rd Floor, Laredo, TX 78040. | Planning and Zoning Department, 1120 San Bernardo Avenue, Laredo, TX 78040. | Jan. 14, 2019 | 480651
Utah: Salt Lake (FEMA Docket No.: B-1855). | City of Draper (18-08-0572P). | The Honorable Troy K. Walker, Mayor, City of Draper, 1020 East Pioneer Road, Draper, UT 84020. | Community Development Department, 1020 East Pioneer Road, Draper, UT 84020. | Dec. 26, 2018 | 490244
Virginia: Independent City (FEMA Docket No.: B-1855). | City of Roanoke (18-03-1202P). | Mr. Robert S. Cowell, Jr., Manager, City of Roanoke, 215 Church Avenue Southwest, Room 364, Roanoke, VA 24011. | Engineering Division, 215 Church Avenue Southwest, Room 350, Roanoke, VA 24011. | Jan. 4, 2019 | 510130
Wyoming:
Sheridan (FEMA Docket No.: B-1855). | Town of Ranchester (18-08-0451P). | The Honorable Peter Clark, Mayor, Town of Ranchester, P.O. Box 695, Ranchester, WY 82839. | Town Hall, 145 Coffeen Street, Ranchester, WY 82839. | Dec. 20, 2018 | 560046
Sheridan (FEMA Docket No.: B-1855). | Unincorporated areas of Sheridan County (18-08-0451P). | The Honorable Mike Nickel, Chairman, Sheridan County Board of Commissioners, 224 South Main Street, Suite B1, Sheridan, WY 82801. | Sheridan County Public Works, Planning and Engineering Department, 224 South Main Street, Suite B8, Sheridan, WY 82801. | Dec. 20, 2018 | 560047

[FR Doc. 2019-03368 Filed 2-26-19; 8:45 am]

BILLING CODE 9110-12-P